DEPARTMENT OF ENERGY

Federal Energy Regulatory Commission

Combined Notice of Filings #1

Take notice that the Commission received the following electric corporate filings:

Docket Numbers: EC23-107-001.

Applicants: Horus West Virginia I, LLC.

Description: Notice of Non-Material Change in Circumstances of Horus West Virginia 1, LLC.

Filed Date: 3/11/24.

Accession Number: 20240311-5288.

Comment Date: 5 p.m. ET 4/1/24.

Take notice that the Commission received the following electric rate filings:

Docket Numbers: ER15-1727-000.

Applicants: Nevada Power Company.

Description: Annual Informational Report on Unreserved Use Penalties of Nevada Power Company and Sierra Pacific Power Company.

Filed Date: 3/4/24.

Accession Number: 20240304-5221.

Comment Date: 5 p.m. ET 3/25/24.

Docket Numbers: ER24-729-001.

Applicants: Holyoke BESS LLC.

Description: Tariff Amendment: Response to Request for Additional Information in Docket No. ER24-729-000 to be effective 12/22/2023.

Filed Date: 3/12/24.

Accession Number: 20240312-5104.

Comment Date: 5 p.m. ET 4/2/24.

Docket Numbers: ER24-738-001.

Applicants: PNY BESS LLC.

Description: Tariff Amendment: Response to Request for Additional Information in Docket No. ER24-738-000 to be effective 12/22/2023.

Filed Date: 3/12/24.

Accession Number: 20240312-5105.

Comment Date: 5 p.m. ET 4/2/24.

Docket Numbers: ER24-816-002.

Applicants: Puget Sound Energy, Inc.

Description: Tariff Amendment: Second Amendment to Boeing Filing—Response to Deficiency Letter to be effective 1/1/2024.

Filed Date: 3/11/24.

Accession Number: 20240311-5226.

Comment Date: 5 p.m. ET 4/1/24.

Docket Numbers: ER24-1448-000.

Applicants: Stonepeak Kestrel Energy Marketing LLC.

Description: § 205(d) Rate Filing: Notice of Succession—Stonepeak Kestrel to Canal Marketing, LLC to be effective 3/12/2024.

Filed Date: 3/11/24.

Accession Number: 20240311-5238.

Comment Date: 5 p.m. ET 4/1/24.

Docket Numbers: ER24-1449-000.

Applicants: Goose Prairie Solar LLC.

Description: Baseline eTariff Filing: Market-Based Rate Application to be effective 5/11/2024.

Filed Date: 3/11/24.

Accession Number: 20240311-5247.

Comment Date: 5 p.m. ET 4/1/24.

Docket Numbers: ER24-1450-000.

Applicants: New York Independent System Operator, Inc., New York State Electric & Gas Corporation.

Description: § 205(d) Rate Filing: New York Independent System Operator, Inc. submits tariff filing per 35.13(a)(2)(iii: NYISO-NYSEG Joint 205: Scnd Amnd LGIA Eight Point Wind SA2452 (CEII) to be effective 2/27/2024.

Filed Date: 3/12/24.

Accession Number: 20240312-5044.

Comment Date: 5 p.m. ET 4/2/24.

Docket Numbers: ER24-1451-000.

Applicants: PJM Interconnection, L.L.C.

Description: § 205(d) Rate Filing: Amendment to ISA, SA No. 5382; Queue No. W3-003/AD2-026/AE1-156 (amend) to be effective 5/12/2024.

Filed Date: 3/12/24.

Accession Number: 20240312-5049.

Comment Date: 5 p.m. ET 4/2/24.

Docket Numbers: ER24-1452-000.

Applicants: Southwest Power Pool, Inc.

Description: § 205(d) Rate Filing: 2900R22 KMEA NITSA NOA to be effective 3/1/2024.

Filed Date: 3/12/24.

Accession Number: 20240312-5051.

Comment Date: 5 p.m. ET 4/2/24.

Docket Numbers: ER24-1454-000.

Applicants: Riverstart Solar Park LLC.

Description: Baseline eTariff Filing: Reactive Power Compensation to be effective 3/13/2024.

Filed Date: 3/12/24.

Accession Number: 20240312-5157.

Comment Date: 5 p.m. ET 4/2/24.

Docket Numbers: ER24-1456-000.

Applicants: Tropicana Manufacturing Company Inc.

Description: Baseline eTariff Filing: Application for Market Based Rate Authority to be effective 5/13/2024.

Filed Date: 3/12/24.

Accession Number: 20240312-5179.

Comment Date: 5 p.m. ET 4/2/24.

Docket Numbers: ER24-1457-000.

Applicants: Duke Energy Carolinas, LLC.

Description: § 205(d) Rate Filing: DEC-SCPSA Dynamic Transfer Agreement RS No. 653 to be effective 6/1/2024.

Filed Date: 3/12/24.

Accession Number: 20240312-5197.

Comment Date: 5 p.m. ET 4/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 12, 2024.
Debbie-Anne A. Reese,
Acting Secretary.

[FR Doc. 2024-05731 Filed 3-18-24; 8:45 am]

BILLING CODE 6717-01-P